DEPARTMENT OF THE INTERIOR

Fish and Wildlife Service

[FWS-R5-ES-2025-N027; FXES11130500000-256-FF05E00000]

Endangered and Threatened Wildlife and Plants; Initiation of 5-Year Status Reviews of 13 Northeastern Species

AGENCY: Fish and Wildlife Service, Interior.

ACTION: Notice of initiation of reviews; request for information.

SUMMARY: We, the U.S. Fish and Wildlife Service, are initiating 5-year status reviews under the Endangered Species Act, as amended, for 13 northeastern species. A 5-year status review is based on the best scientific and commercial data available at the time of the review. We are requesting submission of any such information that has become available since the previous 5-year status review for each species.

DATES: To ensure consideration, please submit your written information by November 3, 2025. However, we will continue to accept new information about any listed species at any time.

ADDRESSES: For instructions on how and where to submit information, see Request for New Information and Table 2—Contacts under SUPPLEMENTARY INFORMATION.

FOR FURTHER INFORMATION CONTACT:

General Information: Sarah Furtak, 413-326-4687 (phone), sarah_furtak@fws.gov (email), and via U.S. mail at U.S. Fish and Wildlife Service, 300 Westgate Center Drive, Hadley, MA 01035.

Species-Specific Information and Submission of Comments: Contact the appropriate person or office listed in Table 2—Contacts in SUPPLEMENTARY INFORMATION.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), are initiating 5-year status reviews under the Endangered Species Act, as amended (ESA; 16 U.S.C. 1531 et seq.), for 13 northeastern species listed in table 1, below.

A 5-year status review is based on the best scientific and commercial data available at the time of the review. Therefore, we are requesting submission of any such information that has become available since the most recent status review for each species.

Why do we conduct 5-year reviews and species status assessments?

Under the ESA, we maintain Lists of Endangered and Threatened Wildlife and Plants (which we collectively refer to as the List) in the Code of Federal Regulations (CFR) at 50 CFR 17.11(h) (for wildlife) and 50 CFR 17.12(h) (for plants). Listed wildlife and plants can also be found at https://ecos.fws.gov/tess_public/pub/listedAnimals.jsp and https://ecos.fws.gov/tess_public/pub/listedPlants.jsp, respectively. Section 4(c)(2)(A) of the ESA requires us to review each listed species' status at least once every 5 years. Our regulations at 50 CFR 424.21 require that we publish a notice in the Federal Register announcing species under active review. For additional information about 5-year status reviews, refer to our fact sheet at https://www.fws.gov/project/five-year-status-reviews.

What species are under review?

We are initiating 5-year status reviews of the species in table 1.

Table 1—Species Under Review
Common name | Scientific name | Status | Where listed | Listing date and citation
Dwarf wedgemussel | Alasmidonta heterodon | Endangered | Wherever found | 3/14/1990, 55 FR 9447.
Peter's Mountain mallow | Iliamna corei | Endangered | Wherever found | 5/12/1986, 51 FR 17343.
Candy darter | Etheostoma osburni | Endangered | Wherever found | 11/21/2018, 83 FR 58747.
Hay's spring amphipod | Stygobromus hayi | Endangered | Wherever found | 2/5/1982, 47 FR 5425.
Purple bean | Villosa perpurpurea | Endangered | Wherever found | 1/10/1997, 62 FR 1647.
Roseate tern | Sterna dougallii dougallii | Endangered (Northeast Region) | Atlantic Coast South to NC | 11/2/1987, 52 FR 42064.
Appalachian monkeyface | Theliderma sparsa | Endangered | Wherever found | 6/14/1976, 41 FR 24062.
Diamond darter | Crystallaria cincotta | Endangered | Wherever found | 8/26/2013, 78 FR 45074.
Northeastern beach tiger beetle | Habroscelimorpha dorsalis dorsalis | Threatened | Wherever found | 8/7/1990, 55 FR 32088.
Flat-spired three-toothed land snail | Triodopsis platysayoides | Threatened | Wherever found | 8/3/1978, 43 FR 28932.
Virginia round-leaf birch | Betula uber | Threatened | Wherever found | 5/27/1978, 43 FR 17910.
American hart's-tongue fern | Asplenium scolopendrium var. americanum | Threatened | Wherever found | 7/14/1989, 54 FR 29726.
Shenandoah salamander | Plethodon shenandoah | Endangered | Wherever found | 8/18/1989, 54 FR 34464.

What information do we consider in our 5-year reviews and species status assessments?

A 5-year status review considers all new information available at the time of the review. In conducting the review, we consider the best scientific and commercial data that have become available since the most recent status review. We are seeking new information specifically regarding:

(1) Species biology, including but not limited to life-history and habitat requirements and impact tolerance thresholds;

(2) Historical and current population conditions, including but not limited to population abundance, trends, distribution, demographics, and genetics;

(3) Historical and current habitat conditions, including but not limited to amount, distribution, and suitability;

(4) Historical and current threats, threat trends, and threat projections in relation to the five listing factors (as defined in Section 4(a)(1) of the ESA);

(5) Conservation measures for the species that have been implemented or are planned; and

(6) Other new information, data, or corrections, including but not limited to taxonomic or nomenclatural changes, identification of erroneous information contained in the List, and improved analytical methods.

Any new information received will be considered during the 5-year review and will also be useful in evaluating ongoing recovery programs for the species.

Request for New Information

To ensure that 5-year status reviews are based on the best available scientific and commercial information, we request new information from all sources. If you submit information, please support it with documentation such as maps, bibliographic references, methods used to gather and analyze the data, and/or copies of any pertinent publications, reports, or letters by knowledgeable sources.

How do I ask questions or provide information?

Please submit your questions, comments, and materials to the appropriate contact in table 2, below.

Public Availability of Comments

Before including your address, phone number, electronic mail address, or other personal identifying information in your submission, you should be aware that your entire submission—including your personal identifying information—may be made publicly available at any time. Although you can request that personal information be withheld from public review, we cannot guarantee that we will be able to do so.

Contacts

New information on the species covered in this notice should be submitted by mail or email to the appropriate contact shown in table 2 by the deadline provided above in DATES.

Table 2—Contacts
Species | Contact person, email, phone | Contact address
Dwarf wedgemussel | New York Field Office, fw5es_nyfo@fws.gov, (607) 753-9334 | U.S. Fish and Wildlife Service, New York Field Office, 3817 Luker Road, Cortland, NY 13045-9385.
Peter's Mountain mallow | Jennifer Stanhope, Jennifer_Stanhope@fws.gov, (804) 905-9781 | U.S. Fish and Wildlife Service, Virginia Field Office, 6669 Short Lane, Gloucester, VA 23061-4410.
Candy darter | West Virginia Field Office, FW5_WVFO@fws.gov, (304) 866-3858 | U.S. Fish and Wildlife Service, West Virginia Field Office, 6263 Appalachian Highway, Davis, West Virginia 26260-8061.
Hay's Spring amphipod | Kathleen Cullen, Kathleen_Cullen@fws.gov, (410) 573-4579 | U.S. Fish & Wildlife Service, Chesapeake Bay Field Office, 177 Admiral Cochrane Drive, Annapolis, MD 21401-7307.
Purple bean | Jordan Richard, Jordan_Richard@fws.gov, (757) 570-3697 | U.S. Fish & Wildlife Service, Southwestern Virginia Field Office, 1656 Linden Dr., Madison, WI 53706.
Roseate tern | New England Field Office, newengland@fws.gov, (603) 223-2541 | U.S. Fish and Wildlife Service, New England Field Office, 70 Commercial Street, Suite 300, Concord, New Hampshire 03301.
Appalachian monkeyface | Jordan Richard, Jordan_Richard@fws.gov, (757) 570-3697 | U.S. Fish & Wildlife Service, Southwestern Virginia Field Office, 1656 Linden Dr., Madison, WI 53706.
Diamond darter | West Virginia Field Office, FW5_WVFO@fws.gov, (304) 866-3858 | U.S. Fish and Wildlife Service, West Virginia Field Office, 6263 Appalachian Highway, Davis, West Virginia 26260-8061.
Northeastern beach tiger beetle | Jennifer Stanhope, Jennifer_Stanhope@fws.gov, (804) 905-9781 | U.S. Fish and Wildlife Service, Virginia Field Office, 6669 Short Lane, Gloucester, VA 23061-4410.
Flat-spired three-toothed land snail | West Virginia Field Office, FW5_WVFO@fws.gov, (304) 866-3858 | U.S. Fish and Wildlife Service, West Virginia Field Office, 6263 Appalachian Highway, Davis, West Virginia 26260-8061.
Virginia round-leaf birch | Emily Argo, Emily_Argo@fws.gov, (804) 404-8184 | U.S. Fish and Wildlife Service, Virginia Field Office, 6669 Short Lane, Gloucester, VA 23061-4410.
American hart's-tongue fern | New York Field Office, fw5es_nyfo@fws.gov, (607) 753-9334 | U.S. Fish and Wildlife Service, New York Field Office, 3817 Luker Road, Cortland, NY 13045-9385.
Shenandoah salamander | Emily Argo, Emily_Argo@fws.gov, (804) 404-8184 | U.S. Fish and Wildlife Service, Virginia Field Office, 6669 Short Lane, Gloucester, VA 23061-4410.

Authority

We publish this document under the authority of the Endangered Species Act of 1973, as amended (16 U.S.C. 1531 et seq.).

Sharon Marino,
Acting Regional Director, Northeast Region, U.S. Fish and Wildlife Service.

[FR Doc. 2025-19289 Filed 10-1-25; 8:45 am]

BILLING CODE 4333-15-P